Executive Order 14074 of May 25, 2022

Advancing Effective, Accountable Policing and Criminal Justice Practices To Enhance Public Trust and Public Safety

By the authority vested in me as President by the Constitution and the laws of the United States of America, I hereby order as follows:

Section 1. Policy. Our criminal justice system must respect the dignity and rights of all persons and adhere to our fundamental obligation to ensure fair and impartial justice for all. This is imperative—not only to live up to our principles as a Nation, but also to build secure, safe, and healthy communities. Protecting public safety requires close partnerships between law enforcement and the communities it serves. Public safety therefore depends on public trust, and public trust in turn requires that our criminal justice system as a whole embodies fair and equal treatment, transparency, and accountability.

Law enforcement officers are often a person's first point of contact with our criminal justice system, and we depend on them to uphold these principles while doing the demanding and often life-threatening work of keeping us safe. We expect them to help prevent and solve crimes and frequently call upon them to respond to social problems outside their expertise and beyond their intended role, diverting attention from their critical public safety mission and increasing the risks of an already dangerous job—which has led to the deaths of law enforcement officers and civilians alike. The vast majority of law enforcement officers do these difficult jobs with honor and integrity, and they work diligently to uphold the law and preserve the public's trust.

Yet, there are places in America today, particularly in Black and Brown communities and other communities of color, where the bonds of trust are frayed or broken. We have collectively mourned following law enforcement encounters that have tragically ended in the loss of life. To heal as a Nation, we must acknowledge that those fatal encounters have disparately impacted Black and Brown people and other people of color. The pain of the families of those who have been killed is magnified when expectations for accountability go unmet, and the echoes of their losses reverberate across generations. More broadly, numerous aspects of our criminal justice system are still shaped by race or ethnicity. It is time that we acknowledge the legacy of systemic racism in our criminal justice system and work together to eliminate the racial disparities that endure to this day. Doing so serves all Americans.

Through this order, my Administration is taking a critical step in what must be part of a larger effort to strengthen our democracy and advance the principles of equality and dignity. While we can make policing safer and more effective by strengthening trust between law enforcement officers and the communities they serve, we must also reform our broader criminal justice system so that it protects and serves all people equally. To be clear, certain obstacles to lasting reform require legislative solutions. In particular, system-wide change requires funding and support that only the Congress can authorize. But my Administration will use its full authority to take action, including through the implementation of this order, to build and sustain fairness and accountability throughout the criminal justice system.

The need for such action could not be more urgent. Since early 2020, communities around the country have faced rising rates of violent crime, requiring law enforcement engagement at a time when law enforcement agencies are already confronting the challenges of staffing shortages and low morale. Strengthening community trust is more critical now than ever, as a community's cooperation with the police to report crimes and assist investigations is essential for deterring violence and holding perpetrators accountable. Reinforcing the partnership between law enforcement and communities is imperative for combating crime and achieving lasting public safety.

It is therefore the policy of my Administration to increase public trust and enhance public safety and security by encouraging equitable and community-oriented policing. We must commit to new practices in law enforcement recruitment, hiring, promotion, and retention, as well as training, oversight, and accountability. Insufficient resources, including those dedicated to support officer wellness—needed more than ever as officers confront rising crime and the effects of the coronavirus disease 2019 (COVID-19) pandemic—jeopardize the law enforcement community's ability to build and retain a highly qualified and diverse professional workforce. We must work together to ensure that law enforcement agencies have the resources they need as well as the capacity to attract, hire, and retain the best personnel, including resources to institute screening mechanisms to identify unqualified applicants and to support officers in meeting the stresses and challenges of the job. We must also ensure that law enforcement agencies reflect the communities they serve, protect all community members equally, and offer comprehensive training and development opportunities to line officers and supervisors alike.

Building trust between law enforcement agencies and the communities they are sworn to protect and serve also requires accountability for misconduct and transparency through data collection and public reporting. It requires proactive measures to prevent profiling based on actual or perceived race, ethnicity, national origin, religion, sex (including sexual orientation and gender identity), or disability, including by ensuring that new law enforcement technologies do not exacerbate disparities based on these characteristics. It includes ending discriminatory pretextual stops and offering support for evidence-informed, innovative responses to people with substance use disorders; people with mental health needs; veterans; people with disabilities; vulnerable youth; people who are victims of domestic violence, sexual assault, or trafficking; and people experiencing homelessness or living in poverty. It calls for improving and clarifying standards for police activities such as the execution of search warrants and the use of force.

Many law enforcement agencies across the country—including at the Federal, State, Tribal, local, and territorial level—have already undertaken important efforts to modernize policing and make our broader criminal justice system more effective and more equitable. Their work has inspired many of the provisions of this order. These agencies—and the officers who serve within them—deserve recognition for their leadership and appreciation for setting a standard that others can follow. This order seeks to recognize these key reforms and implement them consistently across Federal law enforcement agencies. Through this order, the Federal Government will also seek to provide State, Tribal, local, and territorial law enforcement agencies with the guidance and support they need to advance their own efforts to strengthen public trust and improve public safety.

It is also the policy of my Administration to ensure that conditions of confinement are safe and humane, and that those who are incarcerated are not subjected to unnecessary or excessive uses of force, are free from prolonged segregation, and have access to quality health care, including substance use disorder care and mental health care. We must provide people who are incarcerated with meaningful opportunities for rehabilitation and the tools and support they need to transition successfully back to society. Individuals who have been involved in the criminal justice system face many barriers in transitioning back into society, including limited access to housing, public benefits, health care, trauma-informed services and support, education, nutrition, employment and occupational licensing, credit, the ballot, and other critical opportunities. Lowering barriers to reentry is essential to reducing recidivism and reducing crime.

Finally, no one should be required to serve an excessive prison sentence. When the Congress passed the First Step Act of 2018 (Public Law 115-391), it sought to relieve people from unfair and unduly harsh sentences, including those driven by harsh mandatory minimums and the unjust sentencing disparity between crack and powder cocaine offenses. My Administration will fully implement the First Step Act, including by supporting sentencing reductions in appropriate cases and by allowing eligible incarcerated people to participate in recidivism reduction programming and earn time credits.

With these measures, together we can strengthen public safety and the bonds of trust between law enforcement and the community and build a criminal justice system that respects the dignity and equality of all in America.

Sec. 2. Sharing of Federal Best Practices with State, Tribal, Local, and Territorial Law Enforcement Agencies to Enhance Accountability. (a) Independent Investigations of In-Custody Deaths. The Attorney General shall issue guidance to State, Tribal, local, and territorial law enforcement agencies (LEAs) regarding best practices for conducting independent criminal investigations of deaths in custody that may involve conduct by law enforcement or prison personnel.

(b) Improving Training for Investigations into Deprivation of Rights Under Color of Law. The Attorney General shall assess the steps necessary to enhance the Department of Justice's (DOJ's) capacity to investigate law enforcement deprivation of rights under color of law, including through improving and increasing training of Federal law enforcement officers, their supervisors, and Federal prosecutors on how to investigate and prosecute cases involving the deprivation of rights under color of law pursuant to 18 U.S.C. 242. The Attorney General shall also, as appropriate, provide guidance, technical assistance, and training to State, Tribal, local, and territorial investigators and prosecutors on best practices for investigating and prosecuting civil rights violations under applicable law.

(c) Pattern or Practice Investigations. The Attorney General shall consider ways in which the DOJ could strengthen communication with State Attorneys General to help identify relevant data, complaints from the public, and other information that may assist the DOJ's investigations of patterns or practices of misconduct by law enforcement officers, including prosecutors, pursuant to 34 U.S.C. 12601 and other statutes. The Attorney General shall also develop training and technical assistance for State, local, and territorial officials who have similar investigatory authority.

(d) Ensuring Timely Investigations. The heads of all Federal LEAs shall assess whether any of their respective agency's policies or procedures cause unwarranted delay in investigations of Federal law enforcement officers for incidents involving the use of deadly force or deaths in custody, including delays in interagency jurisdictional determinations and subject and witness interviews, and shall, without abrogating any collective bargaining obligations, make changes as appropriate to ensure the integrity and effectiveness of such investigations. Within 240 days of the date of this order, the Attorney General, the Secretary of Homeland Security, and the heads of other executive departments and agencies (agencies) with law enforcement authority shall report to the President what, if any, changes to their respective policies or practices they have made.

(e) Ensuring Thorough Investigations. The Attorney General shall instruct the Federal Bureau of Investigation (FBI) and all United States Attorneys to coordinate closely with the internal oversight bodies of Federal LEAs to ensure that, without abrogating any collective bargaining obligations, for incidents involving the use of deadly force or deaths in custody, initial investigative efforts (including evidence collection and witness interviews) preserve the information required to complete timely administrative investigations as required by the Death in Custody Reporting Act of 2013 (Public Law 113-242) and agency use-of-force guidelines.

(f) Ensuring Timely and Consistent Discipline. The heads of all Federal LEAs shall assess whether any of their respective agency's policies or procedures cause unwarranted delay or inconsistent application of discipline for incidents involving the use of deadly force or deaths in custody, and shall, without abrogating any collective bargaining obligations, make changes as appropriate. Within 240 days of the date of this order, the Attorney General, the Secretary of Homeland Security, and the heads of other Federal LEAs shall report to the President what, if any, changes to their respective policies or practices they have made.

Sec. 3. Strengthening Officer Recruitment, Hiring, Promotion, and Retention Practices. (a) Within 180 days of the date of this order, the Director of the Office of Personnel Management shall convene and chair an interagency working group to strengthen Federal law enforcement recruitment, hiring, promotion, and retention practices, with particular attention to promoting an inclusive, diverse, and expert law enforcement workforce, culminating in an action plan to be published within 365 days of the date of this order. The interagency working group shall consist of the heads of Federal LEAs and shall consult with other stakeholders, such as law enforcement organizations. The interagency working group shall, to the extent possible, coordinate on the development of a set of core policies and best practices to be used across all Federal LEAs regarding recruitment, hiring, promotion, and retention, while also identifying any agency-specific unique recruitment, hiring, promotion, and retention challenges. As part of this process, the interagency working group shall:

(i) assess existing policies and identify and share best practices for recruitment and hiring, including by considering the merits and feasibility of recruiting law enforcement officers who are representative of the communities they are sworn to serve (including recruits who live in or are from these communities) and by considering the recommendations made in the Federal LEAs' strategic plans required under Executive Order 14035 of June 25, 2021 (Diversity, Equity, Inclusion, and Accessibility in the Federal Workforce);

(ii) assess existing policies and identify and share best practices for promotion and retention, including by identifying ways to expand mentorship and leadership development opportunities for law enforcement officers;

(iii) develop best practices for ensuring that performance evaluations and promotion decisions for Federal law enforcement officers include an assessment of the officer's adherence to agency policies, and that performance evaluations and promotion decisions for supervisors include an assessment of the supervisor's effectiveness in addressing misconduct by officers they supervise; and

(iv) develop best practices for conducting background investigations and implementing properly validated selection procedures, including vetting mechanisms and ongoing employment screening, that, consistent with the First Amendment and all applicable laws, help avoid the hiring and retention of law enforcement officers who promote unlawful violence, white supremacy, or other bias against persons based on race, ethnicity, national origin, religion, sex (including sexual orientation and gender identity), or disability.

(b) Within 180 days of the publication of the interagency working group's action plan described in subsection (a) of this section, the heads of Federal LEAs shall update and implement their policies and protocols for recruiting, hiring, promotion, and retention, consistent with the core policies and best practices identified and developed pursuant to subsection (a) of this section. Such policies and protocols shall include mechanisms for Federal LEAs to regularly assess the effectiveness of their recruitment, hiring, promotion, and retention practices in accomplishing the goals of subsection (a) of this section.

(c) The heads of Federal LEAs shall develop and implement protocols for background investigations and screening mechanisms, consistent with the best practices identified and developed pursuant to subsection (a) of this section, for State, Tribal, local, and territorial law enforcement participation in programs or activities over which Federal agencies exercise control, such as joint task forces or international training and technical assistance programs, including programs managed by the Department of State and the Department of Justice.

(d) The Attorney General shall develop guidance regarding best practices for State, Tribal, local, and territorial LEAs seeking to recruit, hire, promote, and retain highly qualified and service-oriented officers. In developing this guidance, the Attorney General shall consult with State, Tribal, local, and territorial law enforcement, as appropriate, and shall incorporate the best practices identified by the interagency working group established pursuant to subsection (a) of this section.

Sec. 4. Supporting Officer Wellness. (a) Within 180 days of the date of this order, the Attorney General shall, in coordination with the Secretary of Health and Human Services (HHS), develop and publish a report on best practices to address law enforcement officer wellness, including support for officers experiencing substance use disorders, mental health issues, or trauma from their duties. This report shall:

(i) consider the work undertaken already pursuant to the Law Enforcement Mental Health and Wellness Act of 2017 (Public Law 115-113); and

(ii) identify existing and needed resources for supporting law enforcement officer wellness.

(b) Upon publication of these best practices, the Attorney General and the heads of all other Federal LEAs shall assess their own practices and policies for Federal officer wellness and develop and implement changes as appropriate.

(c) The Attorney General shall, in coordination with the Secretary of HHS and in consultation with multidisciplinary experts and stakeholders, including the National Consortium on Preventing Law Enforcement Suicide and other law enforcement organizations, conduct an assessment of current efforts and available evidence on suicide prevention and present to the President within 180 days of the date of this order evidence-informed recommendations regarding the prevention of death by suicide of law enforcement officers. These recommendations shall also identify methods to encourage submission of data from Federal, State, Tribal, local, and territorial LEAs to the FBI's Law Enforcement Suicide Data Collection, in a manner that respects the privacy interests of law enforcement officers and is consistent with applicable law.

Sec. 5. Establishing a National Law Enforcement Accountability Database. (a) The Attorney General shall, within 240 days of the date of this order, establish the National Law Enforcement Accountability Database (Accountability Database) as a centralized repository of official records documenting instances of law enforcement officer misconduct as well as commendations and awards. The Attorney General shall ensure that the establishment and administration of the Accountability Database is consistent with the Privacy Act of 1974 and all other applicable laws, and respects appropriate due process protections for law enforcement officers included in the Accountability Database.

(b) The Attorney General, in consultation with the heads of other agencies as appropriate, shall take the following actions with respect to the Accountability Database established pursuant to subsection (a) of this section:

(i) include in the Accountability Database all available information that the Attorney General deems necessary, appropriate, and consistent with law and with considerations of victim confidentiality, concerning misconduct by Federal law enforcement officers relevant to carrying out their official duties;

(ii) include in the Accountability Database, to the maximum extent permitted by law, official records documenting officer misconduct, including, as appropriate: records of criminal convictions; suspension of a law enforcement officer's enforcement authorities, such as de-certification; terminations; civil judgments, including amounts (if publicly available), related to official duties; and resignations or retirements while under investigation for serious misconduct or sustained complaints or records of disciplinary action based on findings of serious misconduct;

(iii) include in the Accountability Database records of officer commendations and awards, as the Attorney General deems appropriate; and

(iv) establish appropriate procedures to ensure that the records stored in the Accountability Database are accurate, including by providing officers with sufficient notice and access to their records, as well as a full and fair opportunity to request amendment or removal of any information about themselves from the Accountability Database on the grounds that it is inaccurate or that it is predicated on an official proceeding that lacked appropriate due process protections.

(c) Requirements for the submission of information to the Accountability Database are as follows:

(i) the heads of Federal LEAs shall submit the information determined appropriate for inclusion by the Attorney General under subsection (b) of this section on a quarterly basis, beginning no later than 60 days from the establishment of the Accountability Database; and

(ii) the Attorney General shall encourage State, Tribal, local, and territorial LEAs to contribute to and use the Accountability Database in a manner consistent with subsection (b)(i) of this section and as permitted by law. The Attorney General shall also issue appropriate guidance and technical assistance to further this goal.

(d) In establishing the Accountability Database under subsection (a) of this section, the Attorney General shall:

(i) make use of Federal records from DOJ databases to the maximum extent permitted by law;

(ii) make use of information held by other agencies or entities by entering into agreements with the heads of other agencies or entities, as necessary and appropriate;

(iii) make use of publicly accessible and reliable sources of information, such as court records, as necessary and appropriate; and

(iv) make use of information submitted by State, Tribal, local, and territorial LEAs, as necessary and appropriate.

(e) The heads of Federal LEAs shall ensure that the Accountability Database established pursuant to subsection (a) of this section is used, as appropriate and consistent with applicable law, in the hiring, job assignment, and promotion of law enforcement officers within Federal LEAs, as well as in the screening of State, Tribal, local, and territorial law enforcement officers who participate in programs or activities over which Federal agencies exercise control, such as joint task forces or international training and technical assistance programs, including programs managed by the Department of State and the DOJ.

(f) The Attorney General shall establish procedures for the submission of employment-related inquiries by Federal, State, Tribal, local, and territorial LEAs, and for the provision, upon such a query, of relevant information to the requestor as appropriate. The Attorney General shall develop guidance and provide technical assistance to encourage State, Tribal, local, and territorial LEAs to integrate use of the Accountability Database established pursuant to subsection (a) of this section into their hiring decisions, consistent with applicable law.

(g) The Attorney General shall ensure that all access to the Accountability Database established pursuant to subsection (a) of this section is consistent with applicable law, and shall also take the following steps related to public access to the Accountability Database:

(i) publish on at least an annual basis public reports that contain anonymized data from the Accountability Database aggregated by law enforcement agency and by any other factor determined appropriate by the Attorney General, in a manner that does not jeopardize law enforcement officer anonymity due to the size of the agency or other factors; and

(ii) assess the feasibility of what records from the Accountability Database may be accessible to the public and the manner in which any such records may be accessible by the public, taking into account the critical need for public trust, transparency, and accountability, as well as the duty to protect the safety, privacy, and due process rights of law enforcement officers who may be identified in the Accountability Database, including obligations under the Privacy Act of 1974 and any other relevant legal obligations; protection of sensitive law enforcement operations; and victim, witness, and source confidentiality.

(h) The Attorney General shall determine whether additional legislation or appropriation of funds is needed to achieve the full objectives of this section.

Sec. 6. Improving Use-of-Force Data Collection. (a) Within 180 days of the date of this order, the heads of Federal LEAs shall submit data on a monthly basis to the FBI National Use-of-Force Data Collection (Use-of-Force Database), in accordance with the definitions and categories set forth by the FBI. To the extent not already collected, such data shall include either all deaths of a person due to law enforcement use of force (including deaths in custody incident to an official use of force); all serious bodily injuries of a person due to law enforcement use of force; all discharges of a firearm by law enforcement at or in the direction of a person not otherwise resulting in death or serious bodily injury; or, if applicable, a report for each category that no qualifying incidents occurred and:

(i) information about the incident, including date, time, and location; the reason for initial contact; the offenses of which the subject was suspected, if any; the charges filed against the suspect by a prosecutor, if any; and the National Incident-Based Reporting System (NIBRS) record or local incident number of the report;

(ii) information about the subject of the use of force, including demographic data by subcategory to the maximum extent possible; types of force used against the subject; resulting injuries or death; and reason for the use of force, including any threat or resistance from, or weapon possessed by, the subject;

(iii) information about the officers involved, including demographic data by subcategory to the maximum extent possible; years of service in law enforcement and employing agency at the time of the incident; and resulting injuries or death; and

(iv) such other information as the Attorney General deems appropriate.

(b) The Attorney General, in consultation with the United States Chief Technology Officer, shall work with State, Tribal, local, and territorial LEAs to identify the obstacles to their participation in the Use-of-Force Database; to reduce the administrative burden of reporting by using existing data collection efforts and improving those LEAs' experience; and to provide training and technical assistance to those LEAs to encourage and facilitate their regular submission of use-of-force information to the Use-of-Force Database.

(c) The Attorney General shall, in a manner that does not reveal the identity of any victim or law enforcement officer, publish quarterly data collected pursuant to subsection (a) of this section and make the data available for research and statistical purposes, in accordance with the standards of data privacy and integrity required by the Office of Management and Budget (OMB).

(d) The Attorney General shall also provide training and technical assistance to encourage State, Tribal, local, and territorial LEAs to submit information to the Law Enforcement Officers Killed and Assaulted Data Collection program of the FBI's Uniform Crime Reporting Program.

(e) The Attorney General shall publish a report within 120 days of the date of this order on the steps the DOJ has taken and plans to take to fully implement the Death in Custody Reporting Act of 2013.

Sec. 7. Banning Chokeholds and Carotid Restraints. (a) The heads of Federal LEAs shall, as soon as practicable, but no later than 90 days from the date of this order, ensure that their respective agencies issue policies with requirements that are equivalent to, or exceed, the requirements of the policy issued by the DOJ on September 13, 2021, which generally prohibits the use of chokeholds and carotid restraints except where the use of deadly force is authorized by law.

(b) The head of every Federal LEA shall incorporate training consistent with this section.

Sec. 8. Providing Federal Law Enforcement Officers with Clear Guidance on Use-of-Force Standards. (a) The heads of Federal LEAs shall, as soon as practicable but no later than 90 days from the date of this order, ensure that their respective agencies issue policies with requirements that reflect principles of valuing and preserving human life and that are equivalent to, or exceed, the requirements of the policy issued by the DOJ on May 20, 2022, which establishes standards and obligations for the use of force.

(b) The heads of Federal LEAs shall, within 365 days of the date of this order, incorporate annual, evidence-informed training for their respective law enforcement officers that is consistent with the DOJ's use-of-force policy; implement early warning systems or other risk management tools that enable supervisors to identify problematic conduct and appropriate interventions to help prevent avoidable uses of force; and ensure the use of effective mechanisms for holding their law enforcement officers accountable for violating the policies addressed in subsection (a) of this section, consistent with sections 2(f) and 3(a)(iii) of this order.

Sec. 9. Providing Anti-Bias Training and Guidance. (a) Within 180 days of the date of this order, the Director of the Office of Personnel Management and the Attorney General shall develop an evidence-informed training module for law enforcement officers on implicit bias and avoiding improper profiling based on the actual or perceived race, ethnicity, national origin, limited English proficiency, religion, sex (including sexual orientation and gender identity), or disability of individuals.

(b) The heads of Federal LEAs shall, to the extent consistent with applicable law, ensure that their law enforcement officers complete such training annually.

(c) The heads of Federal LEAs shall, to the extent consistent with applicable law, establish that effective procedures are in place for receiving, investigating, and responding meaningfully to complaints alleging improper profiling or bias by Federal law enforcement officers.

(d) Federal agencies that exercise control over joint task forces or international training and technical assistance programs in which State, Tribal, local, and territorial officers participate shall include training on implicit bias and profiling as part of any training program required by the Federal agency for officers participating in the task force or program.

(e) The Attorney General, in collaboration with the Secretary of Homeland Security and the heads of other agencies as appropriate, shall assess the implementation and effects of the DOJ's December 2014 Guidance for Federal Law Enforcement Agencies Regarding the Use of Race, Ethnicity, Gender, National Origin, Religion, Sexual Orientation, or Gender Identity; consider whether this guidance should be updated; and report to the President within 180 days of the date of this order as to any changes to this guidance that have been made.

Sec. 10. Restricting No-Knock Entries. (a) The heads of Federal LEAs shall, as soon as practicable, but no later than 60 days from the date of this order, ensure that their respective agencies issue policies with requirements that are equivalent to, or exceed, the requirements of the policy issued by the DOJ on September 13, 2021, which limits the use of unannounced entries, often referred to as “no-knock entries,” and provides guidance to ensure the safe execution of announced entries.

(b) The heads of Federal LEAs shall maintain records of no-knock entries.

(c) The heads of Federal LEAs shall issue annual reports to the President—and post the reports publicly—setting forth the number of no-knock entries that occurred pursuant to judicial authorization; the number of no-knock entries that occurred pursuant to exigent circumstances; and disaggregated data by circumstances for no-knock entries in which a law enforcement officer or other person was injured in the course of a no-knock entry.

Sec. 11. Assessing and Addressing the Effect on Communities of Use of Force by Law Enforcement. (a) The Secretary of HHS shall, within 180 days of the date of this order, conduct a nationwide study of the community effects of use of force by law enforcement officers (whether lawful or unlawful) on physical, mental, and public health, including any disparate impacts on communities of color, and shall publish a public report including these findings.

(b) The Attorney General, the Secretary of HHS, and the Director of OMB shall, within 60 days of the completion of the report described in subsection (a) of this section, provide a report to the President outlining what resources are available and what additional resources may be needed to provide widely and freely accessible mental health and social support services for individuals and communities affected by incidents of use of force by law enforcement officers.

(c) The Attorney General, in collaboration with the heads of other agencies as appropriate, shall issue guidance for Federal, State, Tribal, local, and territorial LEAs on best practices for planning and conducting law enforcement-community dialogues to improve relations and communication between law enforcement and communities, particularly following incidents involving use of deadly force.

(d) Within 180 days of the date of this order, the Attorney General, in collaboration with the heads of other agencies as appropriate, shall issue guidance for Federal, State, Tribal, local, and territorial LEAs, or other entities responsible for providing official notification of deaths in custody, on best practices to promote the timely and appropriate notification of, and support to, family members or emergency contacts of persons who die in correctional or LEA custody, including deaths resulting from the use of force.

(e) After the issuance of the guidance described in subsection (d) of this section, the heads of Federal LEAs shall assess and revise their policies and procedures as necessary to accord with that guidance.

Sec. 12. Limiting the Transfer or Purchase of Certain Military Equipment by Law Enforcement. (a) The Secretary of the Treasury, the Secretary of Defense, the Attorney General, the Secretary of Homeland Security, and the Administrator of General Services shall each review all programs and authorities concerning property transfers to State, Tribal, local, and territorial LEAs, or property purchases by State, Tribal, local, and territorial LEAs either with Federal funds or from Federal agencies or contractors, including existing transfer contracts or grants. Within 60 days of the date of this order, the Secretary of the Treasury, the Secretary of Defense, the Attorney General, the Secretary of Homeland Security, and the Administrator of General Services shall determine whether, pursuant to this order, such transfers or purchases can, consistent with applicable law, be prohibited beyond existing restrictions and, if so, shall further prohibit any such transfers or purchases, of the following property to the extent not already prohibited:

(i) firearms of .50 or greater caliber;

(ii) ammunition of .50 or greater caliber;

(iii) firearm silencers, as defined in 18 U.S.C. 921(a)(24);

(iv) bayonets;

(v) grenade launchers;

(vi) grenades (including stun and flash-bang);

(vii) explosives (except for explosives and percussion actuated non-electric disruptors used for accredited bomb squads and explosive detection canine training);

(viii) any vehicles that do not have a commercial application, including all tracked and armored vehicles, unless the LEA certifies that the vehicle will be used exclusively for disaster-related emergencies; active shooter scenarios; hostage or other search and rescue operations; or anti-terrorism preparedness, protection, prevention, response, recovery, or relief;

(ix) weaponized drones and weapons systems covered by DOD Directive 3000.09 of November 21, 2012, as amended (Autonomy in Weapon Systems);

(x) aircraft that are combat-configured or combat-coded, have no established commercial flight application, or have no application for disaster-related emergencies; active shooter scenarios; hostage or other search and rescue operations; or anti-terrorism preparedness, protection, prevention, response, recovery, or relief; and

(xi) long-range acoustic devices that do not have a commercial application.

(b) Federal agencies shall review and take all necessary action, as appropriate and consistent with applicable law, to comply with and implement the recommendations established by the former Law Enforcement Equipment Working Group (LEEWG) pursuant to Executive Order 13688 of January 16, 2015 (Federal Support for Local Law Enforcement Equipment Acquisition), as contained in the LEEWG's May 2015 Report (Recommendations Pursuant to Executive Order 13688, Federal Support for Local Law Enforcement Equipment Acquisition), and October 2016 Implementation Update (Recommendations Pursuant to Executive Order 13688, Federal Support for Local Law Enforcement Equipment Acquisition). To the extent that there is any inconsistency between this order and either the LEEWG's May 2015 Report or October 2016 Implementation Update, this order shall supersede those documents.

(c) Prior to transferring any property included in the “controlled equipment list” within the October 2016 Implementation Update referenced in subsection (b) of this section, the agencies listed in subsection (a) of this section shall take all necessary action, as appropriate and consistent with applicable law, to ensure that the recipient State, Tribal, local, or territorial LEA:

(i) submits to that agency a description of how the recipient expects to use the property and demonstrates that the property will be tracked in an asset management system;

(ii) certifies that if the recipient determines that the property is surplus to its needs, the recipient will return the property;

(iii) certifies that the recipient notified the local community of its request for the property and translated the notification into appropriate languages to inform individuals with limited English proficiency, and certifies that the recipient notified the city council or other local governing body of its intent to request the property and that the request comports with all applicable approval requirements of the local governing body; and

(iv) agrees to return the property if the DOJ determines or a Federal, State, Tribal, local, or territorial court enters a final judgment finding that the LEA has engaged in a pattern or practice of civil rights violations.

Sec. 13. Ensuring Appropriate Use of Body-Worn Cameras and Advanced Law Enforcement Technologies. (a) The heads of Federal LEAs shall take the following actions with respect to body-worn camera (BWC) policies:

(i) As soon as practicable, but no later than 90 days from the date of this order, the heads of Federal LEAs shall ensure that their respective agencies issue policies with requirements that are equivalent to, or exceed, the requirements of the policy issued by the DOJ on June 7, 2021, requiring the heads of certain DOJ law enforcement components to develop policies regarding the use of BWC recording equipment. The heads of Federal LEAs shall further identify the resources necessary to fully implement such policies.

(ii) For Federal LEAs that regularly conduct patrols or routinely engage with the public in response to emergency calls, the policies issued under subsection (a)(i) of this section shall be designed to ensure that cameras are worn and activated in all appropriate circumstances, including during arrests and searches.

(iii) The heads of Federal LEAs shall ensure that all BWC policies shall be publicly posted and shall be designed to promote transparency and protect the privacy and civil rights of members of the public.

(b) Federal LEAs shall include within the policies developed pursuant to subsection (a)(i) of this section protocols for expedited public release of BWC video footage following incidents involving serious bodily injury or deaths in custody, which shall be consistent with applicable law, including the Privacy Act of 1974, and shall take into account the need to promote transparency and accountability, the duty to protect the privacy rights of persons depicted in the footage, and any need to protect ongoing law enforcement operations.

(c) Within 365 days of the date of this order, the Attorney General, in coordination with the Secretary of HHS and the Director of the Office of Science and Technology Policy (OSTP), shall conduct a study that assesses the advantages and disadvantages of officer review of BWC footage prior to the completion of initial reports or interviews concerning an incident involving use of force, including an assessment of current scientific research regarding the effects of such review. Within 180 days of the completion of that study, the Attorney General, in coordination with the Secretary of HHS, shall publish a report detailing the findings of that study, and shall identify best practices regarding law enforcement officer review of BWC footage.

(d) Within 180 days of the date of this order, the Attorney General shall request the National Academy of Sciences (NAS), through its National Research Council, to enter into a contract to:

(i) conduct a study of facial recognition technology, other technologies using biometric information, and predictive algorithms, with a particular focus on the use of such technologies and algorithms by law enforcement, that includes an assessment of how such technologies and algorithms are used, and any privacy, civil rights, civil liberties, accuracy, or disparate impact concerns raised by those technologies and algorithms or their manner of use; and

(ii) publish a report detailing the findings of that study, as well as any recommendations for the use of or for restrictions on facial recognition technologies, other technologies using biometric information, and predictive algorithms by law enforcement.

(e) The Attorney General, the Secretary of Homeland Security, and the Director of OSTP shall jointly lead an interagency process regarding the use by LEAs of facial recognition technology, other technologies using biometric information, and predictive algorithms, as well as data storage and access regarding such technologies, and shall:

(i) ensure that the interagency process addresses safeguarding privacy, civil rights, and civil liberties, and ensure that any use of such technologies is regularly assessed for accuracy in the specific deployment context; does not have a disparate impact on the basis of race, ethnicity, national origin, religion, sex (including sexual orientation and gender identity), or disability; and is consistent with the policy announced in section 1 of this order;

(ii) coordinate and consult with:

(A) the NAS, including by incorporating and responding to the study described in subsection (d)(i) of this section;

(B) the Subcommittee on Artificial Intelligence and Law Enforcement established by section 5104(e) of the National Artificial Intelligence Initiative Act of 2020 (Division E of Public Law 116-283); and

(C) law enforcement, civil rights, civil liberties, criminal defense, and data privacy organizations; and

(iii) within 18 months of the date of this order, publish a report that:

(A) identifies best practices, specifically addressing the concerns identified in subsection (e)(i) of this section;

(B) describes any changes made to relevant policies of Federal LEAs; and

(C) recommends guidelines for Federal, State, Tribal, local, and territorial LEAs, as well as technology vendors whose goods or services are procured by the Federal Government, on the use of such technologies, including electronic discovery obligations regarding the accuracy and disparate impact of technologies employed in specific cases.

(f) The heads of Federal LEAs shall review the conclusions of the interagency process described in subsection (e) of this section and, where appropriate, update each of their respective agency's policies regarding the use of facial recognition technology, other technologies using biometric information, and predictive algorithms, as well as data storage and access regarding such technologies.

Sec. 14. Promoting Comprehensive and Collaborative Responses to Persons in Behavioral or Mental Health Crisis. (a) Within 180 days of the date of this order, the Attorney General and the Secretary of HHS, in coordination with the heads of other agencies and after consultation with stakeholders, including service providers, nonprofit organizations, and law enforcement organizations, as appropriate, shall assess and issue guidance to State, Tribal, local, and territorial officials on best practices for responding to calls and interacting with persons in behavioral or mental health crisis or persons who have disabilities.

(b) The assessment made under subsection (a) of this section shall draw on existing evidence and include consideration of co-responder models that pair law enforcement with health or social work professionals; alternative responder models, such as mobile crisis response teams for appropriate situations; community-based crisis centers and the facilitation of post-crisis support services, including supported housing, assertive community treatment, and peer support services; the risks associated with administering sedatives and pharmacological agents such as ketamine outside of a hospital setting to subdue individuals in behavioral or mental health crisis (including an assessment of whether the decision to administer such agents should be made only by individuals licensed to prescribe them); and the Federal resources, including Medicaid, that can be used to implement the identified best practices.

Sec. 15. Supporting Alternatives to Arrest and Incarceration and Enhancing Reentry. (a) There is established a Federal Interagency Alternatives and Reentry Committee (Committee), to be chaired by the Assistant to the President for Domestic Policy.

(b) Committee members shall include:

(i) the Secretary of the Treasury;

(ii) the Attorney General;

(iii) the Secretary of the Interior;

(iv) the Secretary of Agriculture;

(v) the Secretary of Commerce;

(vi) the Secretary of Labor;

(vii) the Secretary of HHS;

(viii) the Secretary of Housing and Urban Development;

(ix) the Secretary of Transportation;

(x) the Secretary of Energy;

(xi) the Secretary of Education;

(xii) the Secretary of Veterans Affairs;

(xiii) the Secretary of Homeland Security;

(xiv) the Director of OMB;

(xv) the Administrator of the Small Business Administration;

(xvi) the Counsel to the President;

(xvii) the Chief of Staff to the Vice President;

(xviii) the Chair of the Council of Economic Advisers;

(xix) the Director of the National Economic Council;

(xx) the Director of OSTP;

(xxi) the Director of National Drug Control Policy;

(xxii) the Director of the Office of Personnel Management;

(xxiii) the Chief Executive Officer of the Corporation for National and Community Service;

(xxiv) the Executive Director of the Gender Policy Council; and

(xxv) the heads of such other executive departments, agencies, and offices as the Chair may designate or invite.

(c) The Committee shall consult and coordinate with the DOJ Reentry Coordination Council, which was formed in compliance with the requirement of the First Step Act that the Attorney General convene an interagency effort to coordinate on Federal programs, policies, and activities relating to the reentry of individuals returning from incarceration to the community. See sec. 505(a) of the First Step Act. The Committee may consult with other agencies; Government officials; outside experts; interested persons; service providers; nonprofit organizations; law enforcement organizations; and State, Tribal, local, and territorial governments, as appropriate.

(d) The Committee shall develop and coordinate implementation of an evidence-informed strategic plan across the Federal Government within 200 days of the date of this order to advance the following goals, with particular attention to reducing racial, ethnic, and other disparities in the Nation's criminal justice system:

(i) safely reducing unnecessary criminal justice interactions, including by advancing alternatives to arrest and incarceration; supporting effective alternative responses to substance use disorders, mental health needs, the needs of veterans and people with disabilities, vulnerable youth, people who are victims of domestic violence, sexual assault, or trafficking, and people experiencing homelessness or living in poverty; expanding the availability of diversion and restorative justice programs consistent with public safety; and recommending effective means of addressing minor traffic and other public order infractions to avoid unnecessarily taxing law enforcement resources;

(ii) supporting rehabilitation during incarceration, such as through educational opportunities, job training, medical and mental health care, trauma-informed care, substance use disorder treatment and recovery support, and continuity of contact with children and other family members; and

(iii) facilitating reentry into society of people with criminal records, including by providing support to promote success after incarceration; sealing or expunging criminal records, as appropriate; and removing barriers to securing government-issued identification, housing, employment, occupational licenses, education, health insurance and health care, public benefits, access to transportation, and the right to vote.

(e) With respect to the goals described in subsections (d)(i) and (d)(ii) of this section, the Committee's strategic plan shall make recommendations for State, Tribal, local, and territorial criminal justice systems. With respect to the goal described in subsection (d)(iii) of this section, the Committee's strategic plan shall make recommendations for Federal, State, Tribal, local, and territorial criminal justice systems, and shall be informed by the Attorney General's review conducted pursuant to subsection (f) of this section. Following the 200 days identified in subsection (d) of this section, all agency participants shall continue to participate in, and provide regular updates to, the Committee regarding their progress in achieving the goals described in subsections (d)(i) through (iii) of this section.

(f) Within 150 days of the date of this order, the Attorney General shall submit a report to the President that provides a strategic plan to advance the goals in subsections (d)(ii) and (d)(iii) of this section as they relate to the Federal criminal justice system. In developing that strategic plan, the Attorney General shall, as appropriate, consult with the heads of other relevant agencies to improve the Federal criminal justice system, while safeguarding the DOJ's independence and prosecutorial discretion.

(g) The Committee and the Attorney General's efforts pursuant to this section may incorporate and build upon the report to the Congress issued pursuant to section 505(b) of the First Step Act. The Committee may refer the consideration of specific topics to be separately considered by the DOJ Reentry Coordination Council, with the approval of the Attorney General.

(h) Within 90 days of the date of this order and annually thereafter, and after appropriate consultation with the Administrative Office of the United States Courts, the United States Sentencing Commission, and the Federal Defender Service, the Attorney General shall coordinate with the DOJ Reentry Coordination Council and the DOJ Civil Rights Division to publish a report on the following data, disaggregated by judicial district:

(i) the resources currently available to individuals on probation or supervised release, and the additional resources necessary to ensure that the employment, housing, educational, and reentry needs of offenders are fulfilled; and

(ii) the number of probationers and supervised releasees revoked, modified, or reinstated for Grade A, B, and C violations, disaggregated by demographic data and the mean and median sentence length for each demographic category.

Sec. 16. Supporting Safe Conditions in Prisons and Jails. (a) For the duration of the HHS public health emergency declared with respect to COVID-19, the Attorney General shall continue to implement the core public health measures, as appropriate, of masking, distancing, testing, and vaccination in Federal prisons. In addition, the Attorney General shall undertake, as appropriate, the following actions within 120 days of the date of this order:

(i) updating Federal Bureau of Prisons (BOP) and United States Marshals Service (USMS) procedures and protocols, in consultation with the Secretary of HHS, as appropriate, to facilitate COVID-19 testing of BOP staff and individuals in BOP custody who are asymptomatic or symptomatic and do not have known, suspected, or reported exposure to SARS-CoV-2, the virus that causes COVID-19;

(ii) updating BOP and USMS procedures and protocols, in consultation with the Secretary of HHS, to identify alternatives consistent with public health recommendations to the use of facility-wide lockdowns to prevent the transmission of SARS-CoV-2, or to the use of restrictive housing for detainees and prisoners who have tested positive for SARS-CoV-2 or have known, suspected, or reported exposure;

(iii) identifying the number of individuals who meet the eligibility requirements under the CARES Act (Public Law 116-136), the First Step Act, 18 U.S.C. 3582(c), 18 U.S.C. 3622, and 18 U.S.C. 3624, for release as part of the DOJ's efforts to mitigate the impact and spread of COVID-19; and

(iv) expanding the sharing and publication of BOP and USMS data, in consultation with the Secretary of HHS, regarding vaccination, testing, infections, and fatalities due to COVID-19 among staff, prisoners, and detainees, in a manner that ensures the thoroughness and accuracy of the data; protects privacy; and disaggregates the data by race, ethnicity, age, sex, disability, and facility, after consulting with the White House COVID-19 Response Team, HHS, and the Equitable Data Working Group established in Executive Order 13985 of January 20, 2021 (Advancing Racial Equity and Support for Underserved Communities Through the Federal Government), as appropriate.

(b) The Attorney General shall take the following actions relating to other conditions of confinement in Federal detention facilities:

(i) within 180 days of the date of this order, submit a report to the President detailing steps the DOJ has taken, consistent with applicable law, to ensure that restrictive housing in Federal detention facilities is used rarely, applied fairly, and subject to reasonable constraints; to ensure that individuals in DOJ custody are housed in the least restrictive setting necessary for their safety and the safety of staff, other prisoners and detainees, and the public; to house prisoners as close to their families as practicable; and to ensure the DOJ's full implementation, at a minimum, of the Prison Rape Elimination Act of 2003 (Public Law 108-79) and the recommendations of the DOJ's January 2016 Report and Recommendations Concerning the Use of Restrictive Housing; and

(ii) within 240 days of the date of this order, complete a comprehensive review and transmit a report to the President identifying any planned steps to address conditions of confinement, including steps designed to improve the accessibility and quality of medical care (including behavioral and mental health care), the specific needs of women (including breast and cervical cancer screening, gynecological and reproductive health care, and prenatal and postpartum care), the specific needs of juveniles (including age-appropriate programming), recovery support services (including substance use disorder treatment and trauma-informed care), and the environmental conditions for all individuals in BOP and USMS custody.

Sec. 17. Advancing First Step Act Implementation. (a) The Attorney General is reviewing and updating as appropriate DOJ regulations, policies, and guidance in order to fully implement the provisions and intent of the First Step Act, and shall continue to do so consistent with the policy announced in section 1 of this order. Within 180 days of the date of this order and annually thereafter, the Attorney General shall, in consultation with the Director of OMB, submit a report to the President summarizing:

(i) the rehabilitative purpose for each First Step Act expenditure and proposal for the prior and current fiscal years, detailing the number of available and proposed dedicated programming staff and resources, the use of augmentation among BOP staff, and BOP staffing levels at each facility;

(ii) any additional funding necessary to fully implement the rehabilitative purpose of the First Step Act, ensure dedicated programming staff for all prisoners, and address staffing shortages in all BOP facilities; and

(iii) the following information on the BOP's risk assessment tool, Prisoner Assessment Tool Targeting Estimated Risk and Needs (PATTERN):

(A) the number of individuals released early due to Earned Time Credits who were subsequently convicted and sentenced, as defined by United States Sentencing Guideline sec. 4A1.1(a), in the year following their release, disaggregated by their PATTERN risk level category of “Minimum,” “Low,” “Medium,” or “High” at time of release;

(B) an assessment of any disparate impact of PATTERN, including the weighting of static and dynamic risk factors and of the statutorily enumerated offenses and prior convictions that render individuals ineligible to earn time credits; and

(C) a strategic plan and timeline to improve PATTERN, including by addressing any disparities and developing a needs-based assessment system.

Sec. 18. Collecting Comprehensive Criminal Justice Statistics. (a) The Attorney General, in consultation with the United States Chief Data Scientist and the United States Chief Statistician, shall review the status of State, Tribal, local, and territorial LEAs transitioning from the Summary Reporting System to the NIBRS in the FBI's Uniform Crime Reporting Program, and shall submit a report to the President within 120 days of the date of this order summarizing the status of that transition for State, Tribal, local, and territorial LEAs and including recommendations to maximize participation in the NIBRS.

(b) Within 365 days of the date of this order, the Attorney General, through the Director of the Bureau of Justice Statistics, and the Director of OMB, through the United States Chief Statistician, shall jointly submit a report to the President detailing what, if any, steps the agencies will take:

(i) to improve their current data collections, such as the National Crime Victimization Survey and the Police-Public Contact Survey Supplement, including how to ensure that such data collections are undertaken and published annually, and that they include victimization surveys that measure law enforcement use of force; serious bodily injury or death that occurs in law enforcement encounters; public trust in law enforcement; and actual or perceived bias by demographic subgroups defined by race, ethnicity, and sex (including sexual orientation and gender identity); and

(ii) to improve the Law Enforcement Management and Administrative Statistics Survey, with a focus on ensuring that such data collections are undertaken and published regularly and measure law enforcement workforce data, use of force, public trust in law enforcement, and actual or perceived bias.

(c) The Equitable Data Working Group established in Executive Order 13985 shall work with the National Science and Technology Council to create a Working Group on Criminal Justice Statistics (Working Group), which shall be composed of representatives of the Domestic Policy Council and the office of the Counsel to the President, the DOJ, OMB, and OSTP, and which shall, as appropriate, consult with representatives of the Federal Defender Services; civil rights, civil liberties, data privacy, and law enforcement organizations; and criminal justice data scientists.

(i) Within 365 days of the date of this order, the Working Group and the Assistant to the President for Domestic Policy shall issue a report to the President that assesses current data collection, use, and data transparency practices with respect to law enforcement activities, including calls for service, searches, stops, frisks, seizures, arrests, complaints, law enforcement demographics, and civil asset forfeiture.

(ii) Within 365 days of the date of this order, the Working Group shall assess practices and policies governing the acquisition, use, and oversight of advanced surveillance and forensic technologies, including commercial cyber intrusion tools, by Federal, State, Tribal, local, and territorial law enforcement, and shall include in the report referenced in subsection (c)(i) of this section recommendations based on this assessment that promote equitable, transparent, accountable, constitutional, and effective law enforcement practices.

Sec. 19. Establishing Accreditation Standards. (a) The Attorney General shall develop and implement methods to promote State, Tribal, local, and territorial LEAs seeking accreditation by an authorized, independent credentialing body, including by determining what discretionary grants shall require that the LEA be accredited or be in the process of obtaining accreditation.

(b) Within 240 days of the date of this order, the Attorney General shall develop and publish standards for determining whether an entity is an authorized, independent credentialing body, including that the entity requires policies that further the policies in sections 3, 4, and 7 through 10 of this order, and encourages participation in comprehensive collection and use of police misconduct and use-of-force-data, such as through the databases provided for in sections 5 and 6 of this order. In developing such standards, the Attorney General shall also consider the recommendations of the Final Report of the President's Task Force on 21st Century Policing issued in May 2015. Pending the development of such standards, the Attorney General shall maintain the current requirements related to accreditation.

(c) The Attorney General, in formulating standards for accrediting bodies, shall consult with professional accreditation organizations, law enforcement organizations, civil rights and community-based organizations, civilian oversight and accountability groups, and other appropriate stakeholders. The Attorney General's standards shall ensure that, in order to qualify as an authorized, independent credentialing body, the accrediting entity must conduct independent assessments of an LEA's compliance with applicable standards as part of the accreditation process and not rely on the LEA's self-certification alone.

Sec. 20. Supporting Safe and Effective Policing Through Grantmaking. (a) Within 180 days of the date of this order, the Attorney General, the Secretary of HHS, and the Secretary of Homeland Security shall promptly review and exercise their authority, as appropriate and consistent with applicable law, to award Federal discretionary grants in a manner that supports and promotes the adoption of policies of this order by State, Tribal, local, and territorial governments and LEAs. The Attorney General, the Secretary of HHS, and the Secretary of Homeland Security shall also use other incentives outside of grantmaking, such as training and technical assistance, as appropriate and consistent with applicable law, to support State, Tribal, local, and territorial governments and LEAs in adopting the policies in this order.

(b) On September 15, 2021, the Associate Attorney General directed a review of the DOJ's implementation and administrative enforcement of Title VI of the Civil Rights Act of 1964, 42 U.S.C. 200d et seq., and of the nondiscrimination provisions of the Omnibus Crime Control and Safe Streets Act of 1968, 34 U.S.C. 10228, in connection with Federal financial assistance the DOJ provides, to ensure that the DOJ is providing sufficient oversight and accountability regarding the activities of its federally funded recipients.

(i) Within 30 days of the date of this order, and consistent with any other applicable guidance issued by the Attorney General, the head of every other Federal agency that provides grants to State, local, and territorial LEAs shall commence a similar review of its law enforcement-related grantmaking operations and the activities of its grant recipients.

(ii) Within 180 days of the date of this order, the head of each Federal agency that provides grants to State, local, and territorial LEAs shall submit to the Assistant Attorney General for the Civil Rights Division of the DOJ, for review under Executive Order 12250 of November 2, 1980 (Leadership and Coordination of Nondiscrimination Laws), a report of its review conducted pursuant to subsection (b)(i) of this section, including its conclusions and recommendations. Within 30 days following such review and clearance from the DOJ pursuant to this subsection, the head of each such agency shall make the conclusions of its review publicly available, as appropriate.

Sec. 21. Definitions. For the purposes of this order: (a) “Federal law enforcement agency” or “Federal LEA” means an organizational unit or subunit of the executive branch that employs officers who are authorized to make arrests and carry firearms, and that is responsible for the prevention, detection, and investigation of crime or the apprehension of alleged offenders. The “heads of all Federal law enforcement agencies” means the leaders of those units or subunits.

(b) The term “sustained complaints or records of disciplinary action” means an allegation of misconduct that is sustained through a completed official proceeding, such as an internal affairs or department disciplinary process.

(c) The term “serious misconduct” means excessive force, bias, discrimination, obstruction of justice, false reports, false statements under oath, theft, or sexual misconduct.

Sec. 22. Superseding Prior Orders. (a) Executive Order 13809 of August 28, 2017 (Restoring State, Tribal, and Local Law Enforcement's Access to Life-Saving Equipment and Resources), is revoked. All agencies are directed, consistent with applicable law, to take prompt action to rescind any rules, regulations, guidelines, or policies implementing Executive Order 13809 that are inconsistent with the provisions of this order.

(b) Executive Order 13929 of June 16, 2020 (Safe Policing for Safe Communities), is revoked. All agencies are directed, consistent with applicable law, to take prompt action to rescind any rules, regulations, guidelines, or policies implementing Executive Order 13929 that are inconsistent with the provisions of this order.

(c) To the extent that there are other executive orders that may conflict with or overlap with the provisions in this order, the provisions of this order supersede any prior Executive Order on these subjects.

Sec. 23. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

May 25, 2022.

[FR Doc. 2022-11810

Filed 5-27-22; 11:15 am]

Billing code 3395-F2-P